DEPARTMENT OF THE INTERIOR

National Park Service

[NPS-WASO-NAGPRA-NPS0037120; PPWOCRADN0-PCU00RP14.R50000]

Notice of Inventory Completion: Department of the Interior, National Park Service, Navajo National Monument, Shonto, AZ

AGENCY: National Park Service, Interior.

ACTION: Notice.

SUMMARY: In accordance with the Native American Graves Protection and Repatriation Act (NAGPRA), the U.S. Department of the Interior, National Park Service, Navajo National Monument (NAVA) has completed an inventory of human remains and associated funerary objects and has determined that there is a cultural affiliation between the human remains and associated funerary objects and Indian Tribes or Native Hawaiian organizations in this notice. The human remains and associated funerary objects were removed from Coconino and Navajo Counties, AZ.

DATES: Repatriation of the human remains and associated funerary objects in this notice may occur on or after January 22, 2024.

ADDRESSES: Lyn Carranza, Superintendent, Navajo National Monument, End of AZ Hwy 564 North, P.O. Box 7717, Shonto, AZ 86054-7717, telephone (928) 624-5500 Ext. 244, email lyn_carranza@nps.gov.

SUPPLEMENTARY INFORMATION: This notice is published as part of the National Park Service's administrative responsibilities under NAGPRA. The determinations in this notice are the sole responsibility of the superintendent, NAVA. Additional information on the determinations in this notice, including the results of consultation, can be found in the inventory or related records held by NAVA.

Description

Human remains representing, at minimum, one individual were removed from Coconino County, AZ, in 1939, during excavations conducted by Charlie Steen of the NPS to stabilize Inscription House. No associated funerary objects are present.

Human remains representing, at minimum, one individual were removed from Coconino County, AZ, in 1964, by NPS personnel after being exposed on the surface of Inscription House by erosion. The three associated funerary objects are one bowl, one jar, and one ladle.

Human remains representing, at minimum, 43 individuals were removed from Coconino County, AZ, in 1966, when a midden below Inscription House was excavated by the Museum of Northern Arizona (MNA) under the direction of Dr. George Gumerman. The 473 associated funerary objects are one projectile point, 15 awls, three worked bones, one flesher, one biface fragment, 20 flakes, two pendants, one bead, two earrings, 13 stone tile fragments, nine pieces of limonite, one piece of hematite, one maul, one mano, 68 faunal bones, one abrader, 41 bowls, seven ladles, 38 jars, two colanders, three bags of plant materials, one eggshell, one metate, 235 sherds, one worked sherd, one hammerstone, one concretion, one bag of unfired clay, and one bag of wood.

Human remains representing, at minimum, one individual were removed from Coconino County, AZ, in 1977, by the University of Colorado through a contract with the NPS for salvage excavations on the midden at Inscription House that was excavated in 1966. The 49 associated funerary objects are 48 sherds and one soil sample.

Human remains representing, at minimum, 13 individuals were removed from Navajo County, AZ, in 1934, by the Civil Works Administration (CWA) through the MNA during stabilization activities at Keet Seel. The 69 associated funerary objects are one axe, one bead, one bowl, 55 faunal bones, seven jars, two kaolin samples, one pendant, and one sherd.

Human remains representing, at minimum, one individual were removed from Navajo County, AZ. In 1935, human remains were donated to the MNA and were identified as being from Keet Seel. No associated funerary objects are present.

Human remains representing, at minimum, one individual were removed from Navajo County, AZ. In 1964, human remains were turned over to the NPS and were identified as being from Keet Seel. No associated funerary objects are present.

Human remains representing, at minimum, two individuals were removed from Navajo County, AZ, in 1938, during excavations at Kiva Cave by Milton Wetherill. The 35 associated funerary objects are one piece of cotton cloth and 34 sherds.

Human remains representing, at minimum, three individuals were removed from Navajo County, AZ, in 1963, by Carl Jennings of the University of Colorado during excavations at Turkey Cave. The human remains were deposited at the MNA. No associated funerary objects are present.

Human remains representing, at minimum, one individual were removed from Navajo County, AZ, in 1985, during stabilization work at Turkey Cave by Peter McKenna and John Stein of the NPS Chaco Center. No associated funerary objects are present.

Human remains representing, at minimum, two individuals were removed from Navajo County, AZ. In 1938 human remains removed from Betatakin by Milton Wetherill were donated to the MNA. No associated funerary objects are present.

Human remains representing, at minimum, one individual were removed from Navajo County, AZ in 1964 by NPS archeologist Keith Anderson during an authorized excavation of the midden below Betatakin. No associated funerary objects are present.

Human remains representing, at minimum, one individual were removed from Navajo County, AZ, in 1967, during an unauthorized exploration of Betatakin. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, folklore, geographical information, historical information, kinship, linguistics, oral tradition, other relevant information and expert opinion.

Determinations

Pursuant to NAGPRA and its implementing regulations, and after consultation with the appropriate Indian Tribes and Native Hawaiian organizations, NAVA has determined that:

• The human remains described in this notice represent the physical remains of 71 individuals of Native American ancestry.

• The 629 objects described in this notice are reasonably believed to have been placed with or near individual human remains at the time of death or later as part of the death rite or ceremony.

• There is a relationship of shared group identity that can be reasonably traced between the human remains and associated funerary objects described in this notice and the Hopi Tribe of Arizona; Navajo Nation, Arizona, New Mexico, & Utah; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 22, 2024. If competing requests for repatriation are received, NAVA must determine the most appropriate requestor prior to repatriation. Requests for joint repatriation of the human remains and associated funerary objects are considered a single request and not competing requests. NAVA is responsible for sending a copy of this notice to the Indian Tribes and Native Hawaiian organizations identified in this notice.

Authority: Native American Graves Protection and Repatriation Act, 25 U.S.C. 3003, and the implementing regulations, 43 CFR 10.9, 10.10, and 10.14.

Dated: December 13, 2023.
Melanie O'Brien,
Manager, National NAGPRA Program.

[FR Doc. 2023-28176 Filed 12-21-23; 8:45 am]

BILLING CODE 4312-52-P